DEPARTMENT OF ENERGY

Office of Energy Efficiency and Renewable Energy

Appliance Standards and Rulemaking Federal Advisory Committee (ASRAC): Correction

AGENCY: Office of Energy Efficiency and Renewable Energy, Department of Energy.

ACTION: Notice of Establishment of the Appliance Standards and Rulemaking Federal Advisory Committee (ASRAC) and Solicitation of Nominations for Membership; Correction.

SUMMARY: The Department of Energy (DOE) published in the Federal Register on March 8, 2012, a notice of Establishment of the Appliance Standards and Rulemaking Federal Advisory Committee (ASRAC) and Solicitation of Nominations for Membership. The notice contained incorrect language. As a result, the language is being corrected in this notice.

Correction

In the Federal Register of March 8, 2012, in FR DOC. 2012-5661, on pages 14008-14009, please make the following corrections:

In the SUPPLEMENTARY INFORMATION heading, page 14009, second column, first paragraph, seventh line, please remove the language, “minorities, women”, and add in its place “the needs of women and men of all racial and ethnic groups”.

Issued in Washington, DC on March 12, 2012.
LaTanya R. Butler,
Acting Deputy Committee Management Officer.

[FR Doc. 2012-6415 Filed 3-15-12; 8:45 am]

BILLING CODE 6450-01-P